DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having an effect in order to qualify or remain qualified for participation in the Federal Emergency Management Agency's (FEMA's) National Flood Insurance Program (NFIP).

DATES: The date of October 16, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Elizabeth Asche,
Assistant Administrator, Federal Insurance Directorate, Resilience, Federal Emergency Management Agency, Department of Homeland Security.

Community | Community map repository address
Anderson County, Kentucky and Incorporated Areas
Docket No.: FEMA-B-2444
City of Lawrenceburg | City Hall, 100 North Main Street, Lawrenceburg, KY 40342.
Unincorporated Areas of Anderson County | Lawrenceburg City Hall, 100 North Main Street, Lawrenceburg, KY 40342.
Boyle County, Kentucky and Incorporated Areas
Docket No.: FEMA-B-2444
Unincorporated Areas of Boyle County | Boyle County Government Services Center, 1858 South Danville Bypass, Danville, KY 40422.
Bullitt County, Kentucky and Incorporated Areas
Docket No.: FEMA-B-2444
City of Fox Chase | Bullitt County Nina Mooney Annex Building, 149 North Walnut Street, 3rd Floor, Shepherdsville, KY 40165.
City of Hebron Estates | Hebron Estates City Community Center, 3407 Burkland Boulevard, Shepherdsville, KY 40165.
City of Hillview | Hillview City Office, 283 Crestwood Lane, Louisville, KY 40229.
City of Mount Washington | City Hall, 311 Snapp Street, Mount Washington, KY 40047.
City of Pioneer Village | Pioneer Village City Hall, 4700 Summitt Drive, Louisville, KY 40229.
City of Shepherdsville | Government Center, 634 Conestoga Parkway, Shepherdsville, KY 40165.
Unincorporated Areas of Bullitt County | Bullitt County Nina Mooney Annex Building, 149 North Walnut Street, 3rd Floor, Shepherdsville, KY 40165.
Hardin County, Kentucky and Incorporated Areas
Docket No.: FEMA-B-2444
City of Radcliff | City Hall, 411 West Lincoln Trail Boulevard, Radcliff, KY 40160.
City of West Point | City Hall, 509 Elm Street, West Point, KY 40177.
Unincorporated Areas of Hardin County | Hardin County Government Center, 150 North Provident Way, Suite 223, Elizabethtown, KY 42701.
Henry County, Kentucky and Incorporated Areas
Docket No.: FEMA-B-2444
Unincorporated Areas of Henry County | Henry County Planning and Zoning Department, 19 South Property Road, New Castle, KY 40050.
Mercer County, Kentucky and Incorporated Areas
Docket No.: FEMA-B-2444
City of Harrodsburg | The Greater Harrodsburg/Mercer County Planning and Zoning Commission, 109 Short Street, Number 1, Harrodsburg, KY 40330.
Unincorporated Areas of Mercer County | The Greater Harrodsburg/Mercer County Planning and Zoning Commission, 109 Short Street, Number 1, Harrodsburg, KY 40330.
Nelson County, Kentucky and Incorporated Areas
Docket No.: FEMA-B-2444
City of Bloomfield | Nelson County Joint City-County Planning Commission, 989 Chambers Boulevard, Bardstown, KY 40004.
Unincorporated Areas of Nelson County | Nelson County Joint City-County Planning Commission, 989 Chambers Boulevard, Bardstown, KY 40004.
Oldham County, Kentucky and Incorporated Areas
Docket No.: FEMA-B-2444
City of Crestwood | Oldham County Planning and Zoning Department, 100 West Jefferson Street, La Grange, KY 40031.
City of La Grange | Oldham County Planning and Zoning Department, 100 West Jefferson Street, La Grange, KY 40031.
Unincorporated Areas of Oldham County | Oldham County Planning and Zoning Department, 100 West Jefferson Street, La Grange, KY 40031.
Shelby County, Kentucky and Incorporated Areas
Docket No.: FEMA-B-2444
City of Shelbyville | Public Works Department, 787 Kentucky Street, Shelbyville, KY 40065.
City of Simpsonville | City Hall, 108 Old Veechdale Road, Simpsonville, KY 40067.
Unincorporated Areas of Shelby County | Shelby County Courthouse, 501 Main Street, Shelbyville, KY 40065.
Spencer County, Kentucky and Incorporated Areas
Docket No.: FEMA-B-2444
City of Taylorsville | Spencer County Planning and Zoning, 220 Main Cross, Taylorsville, KY 40071.
Unincorporated Areas of Spencer County | Spencer County Planning and Zoning, 220 Main Cross, Taylorsville, KY 40071.
Allen Parish, Louisiana and Incorporated Areas
Docket No.: FEMA-B-2430
Unincorporated Areas of Allen Parish | Allen Parish Police Jury Administration Building, 602 Court Street, Oberlin, LA 70655.
Village of Reeves | Village Hall, 18370 Highway 190, Reeves, LA 70658.
Appomattox County, Virginia and Incorporated Areas
Docket No.: FEMA-B-2432
Town of Appomattox | Public Works Department, 1799 Church Street, Appomattox, VA 24522.
Unincorporated Areas of Appomattox County | Appomattox County Administration Building, 153-A Morton Lane, Appomattox, VA 24522.

[FR Doc. 2025-12745 Filed 7-8-25; 8:45 am]

BILLING CODE 9110-12-P